DEPARTMENT OF ENERGY

Federal Energy Regulatory Commission

Combined Notice of Filings.

Take notice that the Commission has received the following Natural Gas Pipeline Rate and Refund Report filings:

Docket Numbers: RP21-588-001.

Applicants: ANR Pipeline Company.

Description: Tariff Amendment: Amendment to RP21-588-000 to be effective 4/1/2021.

Filed Date: 3/11/21.

Accession Number: 20210311-5000.

Comments Due: 5 p.m. ET 3/17/21.

Docket Numbers: RP21-617-000.

Applicants: Empire Pipeline, Inc.

Description: § 4(d) Rate Filing: Fuel Tracker (Empire Tracking Supply Retainage 2021) to be effective 4/1/2021.

Filed Date: 3/11/21.

Accession Number: 20210311-5063.

Comments Due: 5 p.m. ET 3/23/21.

Docket Numbers: RP21-618-000.

Applicants: Southern Star Central Gas Pipeline, Inc.

Description: Compliance filing Operational Flow Order Penalties Waiver Request.

Filed Date: 3/11/21.

Accession Number: 20210311-5206.

Comments Due: 5 p.m. ET 3/18/21.

Docket Numbers: RP21-619-000.

Applicants: Arlington Storage Company, LLC.

Description: § 4(d) Rate Filing: Arlington Storage Company, LLC, Filing of Amendments to Nonconforming Agreements to be effective 4/1/2021.

Filed Date: 3/12/21.

Accession Number: 20210312-5065.

Comments Due: 5 p.m. ET 3/24/21.

Docket Numbers: RP21-620-000.

Applicants: GreenAmerica Biofuels Ord LLC, Green Plains Ord LLC.

Description: Joint Petition for Limited Waiver of Capacity Release Regulations, et al. of GreenAmerica Biofuels Ord LLC, et al. under RP21-620.

Filed Date: 3/12/21.

Accession Number: 20210312-5106.

Comments Due: 5 p.m. ET 3/19/21.

Docket Numbers: RP21-621-000.

Applicants: ANR Pipeline Company.

Description: § 4(d) Rate Filing: ANR WPS NRA Amendments to be effective 4/1/2019.

Filed Date: 3/12/21.

Accession Number: 20210312-5119.

Comments Due: 5 p.m. ET 3/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2021.
Nathaniel J. Davis, Sr.,
Deputy Secretary.

[FR Doc. 2021-05707 Filed 3-18-21; 8:45 am]

BILLING CODE 6717-01-P